ENVIRONMENTAL PROTECTION AGENCY

[ER-FRL-6684-3]

Environmental Impacts Statements; Notice of Availability

Responsible Agency: Office of Federal Activities, General Information (202) 564-7167 or http://www.epa.gov/compliance/nepa/.

Weekly Receipt of Environmental Impact Statements Filed 02/12/2007 through 02/16/2007 Pursuant to 40 CFR 1506.9

EIS No. 20070052, Draft EIS, NPS, PA, Valley Forge National Historical Park, General Management Plan, Implementation, King of Prussia, PA, Comment Period Ends: 04/09/2007, Contact: Deirdre Gibson 610-783-1047

EIS No. 20070053, Draft EIS, AFS, ID, Sun Valley Resort (Bald Mountain) 2005 Master Plan—Phase I Project, Implementation, Special-Use-Permits, Sawtooth National Forest, Blaine County, ID, Comment Period Ends: 04/09/2007, Contact: Carol Brown 208-727-5000

EIS No. 20070054, Final EIS, NPS, UT, Utah Museum of Natural History, Construction and Operation, New Museum Facility at University of Utah, Salt Lake City, UT , Wait Period Ends: 03/26/2007, Contact: Roxanne Runkel 303-969-2377

EIS No. 20070055, Draft EIS, AFS, ID, Idaho Cobalt Project, Development of Two Underground Mines, a Waste Disposal Site and Associated Facilities, Approval of Plan-of-Operation, Salmon-Cobalt Ranger District, Salmon-Challis National Forest, Lemhi County, ID, Comment Period Ends: 04/24/2007, Contact: Ray Henderson 208-756-5231

EIS No. 20070056, Draft EIS, FHW, LA, I-49 South Project, from Raceland to the Westbank Expressway Route U.S. 90, Funding, Coast Guard Bridge Permit, U.S. Army COE Section 10 and 404 Permits, Jefferson, Lafourche, and St. Charles Parishes, LA, Comment Period Ends: 04/09/2007, Contact: Mark Stinson 225-757-7617

EIS No. 20070057, Final EIS, FHW, NC, Winston-Salem Northern Beltway, (Eastern Section) U.S. 52 south to I-40 Business and I-40 Business south to U.S. 311, Improvements to the Surface Transportation Network, TIP Project Nos. U2579 and U-2579A, Forsyth County, NC (THIS EIS #20070057 AND EIS #20070058 ARE COMBINED IN A SINGLE DOCUMENT.), Wait Period Ends: 03/26/2007, Contact: John F. Sullivan 919-856-4346

EIS No. 20070058, Second Final Supplement, FHW, NC, Western Section of the Winston-Salem Northern Beltway, Updated Information, U.S. 158 north to U.S. 52, TIP Project No. R-2247, Forsyth County, NC (THIS EIS #20070058 AND EIS 20070057 ARE COMBINED IN A SINGLE DOCUMENT.) , Wait Period Ends: 03/26/2007, Contact: John F. Sullivan 919-856-4346

EIS No. 20070059, Final EIS, NPS, NV, Clean Water Coalition Systems Conveyance and Operations Program, (SCOP) Construction, Operation and Maintenance, Boulder Islands North is the Selected Alternative, City of Las Vegas, NV, Wait Period Ends: 03/26/2007, Contact: Michael Boyles 702-293-8978

EIS No. 20070060, Final EIS, AFS, WI, Twentymile Restoration Project Area, Restore Northern Hardwood Forests to an Uneven-aged Condition, Great Divide Ranger District, Chequamegon-Nicolet National Forest, Ashland and Bayfield Counties, WI, Wait Period Ends: 03/26/2007, Contact: Debra Proctor 715-634-4821

EIS No. 20070061, Draft EIS, BLM, CA, Mountain View IV Wind Energy Project, Construction and Operation, Wind Turbine Generators on Public Lands in Section 22 and 28 and Private Land Section 27, Right-of-Way Grant and Conditional Use Permit in the City of Palm Springs, CA, Comment Period Ends: 04/09/2007, Contact: Greg Hill 760-251-4840

EIS No. 20070062, Final EIS, NPS, NE, Niobrara National Scenic River General Management Plan, Implementation, Brown, Cherry, Keya Paha and Rock Counties, NE, Wait Period Ends: 03/26/2007, Contact: Paul Hedren 402-336-3970

EIS No. 20070063, Draft Supplement, USN, 00, Introduction of F/A 18 E/F (Super Hornet) Aircraft, Updated Information, Construction and Operation of an Outlying Landing Field, Naval Air Station (NAS) Oceana, VA; Marine Corps Air Station (MCAS) Cherry Point, NC, Comment Period Ends: 04/24/2007, Contact: Francine Blend 757-322-4332

EIS No. 20070064, Draft Supplement, FHW, AR, US 67 Construction, U.S. 67/167 to I-40 West/I-430 Interchange around the North Little Rock Metropolitan Area, New and Updated Information, Funding, Pulaski County, AR, Comment Period Ends: 04/12/2007, Contact: Randal Looney 501-324-6430

Dated: February 20, 2007.
Ken Mittelholtz,
Environmental Protection Specialist, Office of Federal Activities.

[FR Doc. E7-3112 Filed 2-22-07; 8:45 am]

BILLING CODE 6560-50-P